DEPARTMENT OF LABOR

Office of the Secretary

Submission for OMB Review: Comment Request

October 21, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Mine Safety and Health Administration (MSHA), Office of Management and Budget, 725 17th Street, NW., Room 10235, Washington, DC 20503, Telephone: 202-395-4816/Fax: 202-395-5806 (these are not toll-free numbers), E-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Fire Protection (Underground Coal Mines).

OMB Control Number: 1219-0054.

Form Number: N/A.

Estimated Number of Respondents: 622.

Estimated Total Annual Burden Hours: 75,729.

Estimated Total Annual Cost Burden (does not include hourly wage costs): $1,344.

Affected Public: Business or other for profits (mines).

Description: Underground mine operators are required to submit to MSHA for approval, a plan for the instruction of miners in firefighting and evacuation procedures to be followed in event of an emergency. In addition, fire drills are to be conducted quarterly, equipment tested, and a record kept of the drills and testing results. For additional information, see related notice published at Vol. 74 FR 31997 on July 06, 2009.

Agency: Mine Safety and Health Administration.

Type of Review: Extension without change of currently approved collection.

Title of Collection: Petitions for Modification—Pertains to All Mines.

OMB Control Number: 1219-0065.

Form Number: N/A.

Estimated Number of Respondents: 80.

Estimated Total Annual Burden Hours: 2,560.

Estimated Total Annual Cost Burden (does not include hourly wage costs): $32,358.

Affected Public: Business or other for profits (mines).

Description: The Department's regulations at 30 CFR 44.9, 44.10, and 44.11 provide procedures by which a mine operator, representative of miners, or independent contractor may request relief from a mandatory safety standard. For additional information, see related notice published at Vol. 74 FR 37061 on July 27, 2009.

Darrin A, King,
Departmental Clearance Officer.

[FR Doc. E9-25809 Filed 10-26-09; 8:45 am]

BILLING CODE 4510-43-P